FEDERAL COMMUNICATIONS COMMISSION

Notice of Public Information Collection(s) being Reviewed by the Federal Communications Commission for Extension Under Delegated Authority

November 2, 2004.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this information collection should submit comments January 7, 2005. If you anticipate that you will be submitting comments, but find it difficult to do so within the period of time allowed by this notice, you should advise the contact listed below as soon as possible.

ADDRESSES: Direct all Paperwork Reduction Act (PRA) comments to Judith B. Herman, Federal Communications Commission, 445 12th Street, SW., Room 1-C804, Washington, DC 20554 or via the Internet to Judith-B.Herman@fcc.gov.

FOR FURTHER INFORMATION CONTACT: For additional information or copies of the information collections contact Judith B. Herman at 202-418-0214 or via the Internet at Judith-B.Herman@fcc.gov.

SUPPLEMENTARY INFORMATION:

OMB Control No.: 3060-0221.

Title: Section 90.155, Time in Which Station Must Be Placed in Operation.

Form No.: N/A.

Type of Review: Extension of a currently approved collection.

Respondents: Business or other for profit, not-for-profit institutions, and state, local or tribal government.

Number of Respondents: 2,055.

Estimated Time Per Response: 1 hour.

Frequency of Response: On occasion reporting requirement.

Total Annual Burden: 2,055 hours.

Annual Cost Burden: N/A.

Privacy Act Impact Assessment: N/A.

Needs and Uses: Section 90.155 provides that all stations must be placed in operation within twelve (12) months from the date of grant or the authorization cancels automatically and must be returned to the Commission. Application for extension of time to commence service may be made on FCC Form 601. Extensions of time must be filed prior to the expiration of the construction period. Extensions may be granted only if the licensee shows that the failure to commence service is due to causes beyond its control. No extensions will be granted for delays cause by lack of financing, lack of site availability, for the assignment or transfer of control of an authorization, or for failure to timely order equipment. If the licensee orders equipment within 90 days of the license grant, a presumption of due diligence is created. The Commission is seeking extension (no change in rule requirements) to this information collection request. We are simply seeking the full three year OMB clearance.

OMB Control No.: 3060-0221.

Title: Section 87.109, Station Logs.

Form No.: N/A.

Type of Review: Extension of a currently approved collection.

Respondents: Business or other for profit.

Number of Respondents: 3.

Estimated Time Per Response: 100 hours.

Frequency of Response: Recordkeeping requirement.

Total Annual Burden: 300 hours.

Annual Cost Burden: N/A.

Privacy Act Impact Assessment: N/A.

Needs and Uses: This rule section is necessary to require each fixed station in the International Aeronautical Mobile Service (IAMS) to maintain a written or automatic log in accordance with the provisions of the International Civil Aviation Organization (ICAO). This recordkeeping requirement is necessary to document specific information, including harmful interference, equipment failure, and logging of distress and safety calls where applicable. The Commission is seeking extension (no change in rule requirements) to this information collection request. We are simply seeking the full three year OMB clearance.

Federal Communications Commission.
Marlene H. Dortch,
Secretary.

[FR Doc. 04-24835 Filed 11-5-04; 8:45 am]

BILLING CODE 6712-01-P